DEPARTMENT OF ENERGY

Federal Energy Regulatory Commission

Notice of Applications

| Docket Nos.
Port Arthur LNG, LLC and PALNG Common Facilities Company, LLC | CP17-20-000 PF15-18-000
Port Arthur Pipeline, LLC | CP17-21-000 PF15-19-000

Take notice that on November 29, 2016, Port Arthur LNG, LLC (Port Arthur LNG) and PALNG Common Facilities Company, LLC, 2925 Briarpark, Suite 900, Houston, Texas 77042, filed an application, in Docket No. CP17-20-000, pursuant to section 3(a) of the Natural Gas Act (NGA) and Parts 153 and 380 of the Commission's Regulations, requesting authorization to site, construct, modify, and operate a natural gas liquefaction facility and liquefied natural gas export marine and truck loading terminal facilities (Liquefaction Project), located in Jefferson County, Texas.

Also, take notice that on November 29, 2016, Port Arthur Pipeline, LLC (Port Arthur Pipeline), 2925 Briarpark, Suite 900, Houston, Texas 77042, filed an application pursuant to section 7(c) of the NGA, and Parts 157 and 284 of the Commission's regulations, an application in Docket No. CP17-21-000 for (1) a certificate of public convenience and necessity (i) authorizing Port Arthur Pipeline to construct, own, and operate a new natural gas pipeline system, (ii) approving a pro forma Tariff, and (iii) approving the proposed initial rates for service; (2) a Part 157, Subpart F blanket certificate authorizing Port Arthur Pipeline to engage in certain self-implementing routine activities; and (3) a Part 284, Subpart G blanket certificate authorizing Port Arthur Pipeline to transport natural gas, on an open-access and self-implementing basis with pre-granted abandonment authority.

Specifically, Port Arthur LNG's proposed Liquefaction Project consists of two liquefaction trains with a total capacity of 13.5 MTPA (1,865 MMcf/d), three LNG tanks capable of storing 160,000 m³ each, for a total working capacity of 480,000 m³, marine and truck loading facilities, and all necessary ancillary and support facilities. Port Arthur LNG states that the purpose of the Liquefaction Project is liquefying supplies of domestic natural gas for export to foreign markets.

Port Arthur Pipeline proposes to construct 34.2 miles of new 42-inch-diameter pipeline, approximately 4.65 miles of variable diameter lateral pipelines, two compressor stations totaling 65,052 horsepower, and associated facilities to deliver up to 2,000 MMcf/d of natural gas to the Liquefaction Project. Port Arthur Pipeline's proposed facilities will be located in Orange and Jefferson Counties, Texas and Cameron Parish, Louisiana. Port Arthur Pipeline estimates the proposed pipeline facilities cost to be approximately $899,739,889, all as more fully set forth in the applications which are on file with the Commission and open to public inspection. These filings are available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

On March 31, 2015, the Commission staff granted Port Arthur LNG's and Port Arthur Pipeline's requests to use the National Environmental Policy Act (NEPA) Pre-Filing Process and assigned Docket Nos. PF15-18-000 and PF15-19-000, respectively, to staff activities involved in the above referenced projects. Now, as of the filing of these applications on November 29, 2016, the NEPA Pre-Filing Process for this project has ended. From this time forward, these proceedings will be conducted in Docket Nos. CP17-20-000 and CP17-21-000, as noted in the caption of this Notice.

Any questions regarding these two applications should be directed to Dan King, Director & Regulatory Counsel, Port Arthur LNG/Pipeline, 488 8th Avenue, HQ12S1, San Diego, CA 92101, by phone at (619) 696-4350, or by email to daking@semprausgp.com.

Pursuant to section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and five copies of the protest or intervention to the Federal Energy Regulatory Commission, 888 First Street NE., Washington, DC 20426.

Comment Date: January 3, 2017.

Dated: December 13, 2016 .
Kimberly D. Bose,
Secretary.

[FR Doc. 2016-30550 Filed 12-19-16; 8:45 am]

BILLING CODE 6717-01-P